DEPARTMENT OF THE INTERIOR

Bureau of Land Management

[WY-921; WYW 161764]

Notice of Proposed Withdrawal and Transfer of Jurisdiction and Opportunity for Public Meeting; Wyoming

AGENCY: Bureau of Land Management, Interior.

ACTION: Notice.

SUMMARY: The United States Department of Energy has filed an application requesting the Secretary of the Interior segregate from the mining laws approximately 1,091 acres of public land associated with a proposed withdrawal and transfer of jurisdiction. The proposed withdrawal and transfer of jurisdiction will ultimately involve approximately 577 acres of public land in Fremont County, Wyoming. The remaining 514 acres will be opened to mining upon completion of a land survey to determine the boundary prior to the withdrawal and transfer of jurisdiction. The proposed withdrawal will protect public health and safety from land contaminated by previous mining and milling operations. This notice segregates the land for up to 2 years from location and entry under the United States mining laws and precludes encumbrances from activities, including location of mining claims, that would cause unnecessary cost and delay during reclamation activities prior to transfer.

DATES: Comments and requests for a public meeting must be received by February 13, 2007

ADDRESSES: Correspondence should be addressed to the State Director, BLM Wyoming State Office, 5353 Yellowstone Road, P.O. Box 1828, Cheyenne, Wyoming 82003-1828.

FOR FURTHER INFORMATION CONTACT: Janet Booth, BLM Wyoming State Office, 307-775-6124.

SUPPLEMENTARY INFORMATION: The United States Department of Energy has filed an application with the Bureau of Land Management to segregate from the mining laws the public land described below. Jurisdiction over approximately 577 acres will ultimately be withdrawn and transferred, subject to valid existing rights, from the Department of the Interior to the Department of Energy.

Sixth Principal Meridian

T. 33 N., R. 90 W.,

Sec. 9, lots 1 and 2, and NE¼SE¼;

Sec. 10, lots 1 through 3, inclusive, NW¼, W½SE¼, and that unpatented portion of Mineral Survey No. 644 lying within sec. 10;

Sec. 15, lots 1 through 8, inclusive, S½NE¼, NW¼NE¼, N½SE¼, SE¼SE¼, and those unpatented portions of Mineral Survey Nos. 587 and 644 lying within sec. 15;

Sec. 21, E½NE¼, and NE¼SE¼;

Sec. 22, lots 1 through 4, inclusive, NE¼NE¼, and those unpatented portions of Mineral Survey Nos. 582, 584, and 587 lying within the N½, NW¼SW¼, and N½SE¼.

The area described contains approximately 1,091 acres in Fremont County.

The purpose of the proposed withdrawal and transfer of jurisdiction is to allow the United States Department of Energy perpetual administration over the land as a hazardous material site under authority of the Uranium Mill Tailings Radiation Control Act of 1978, 42 U.S.C. 7902, et seq.

For a period of 90 days from the date of publication of this notice, all persons who wish to submit comments, suggestions, or objections in connection with the proposed action may present their views in writing to the Wyoming State Director, BLM, at the above address.

Comments, including names and street addresses of respondents, and records relating to the proposed withdrawal will be available for public review at BLM Wyoming State Office during regular business hours.

Individual respondents may request confidentiality. If you wish to withhold your name or address from public review or from disclosure under the Freedom of Information Act, you must state this prominently at the beginning of your comments. Such requests will be honored to the extent allowed by law. All submissions from organizations or businesses and from representatives or officials of organizations or businesses will be made available for public inspection in their entirety.

This application will be processed in accordance with the regulations set forth in 43 CFR part 2300.

Effective on the date of publication, this land is segregated from location and entry under the United States mining laws. The segregative effect of this application will terminate 2 years from the date of this publication unless final withdrawal action is taken or the application is denied or cancelled prior to that date (43 CFR 2310.2). Notice of any action will be published in the Federal Register.

Notice is hereby given that an opportunity for a public meeting is afforded in connection with the proposed withdrawal and transfer of jurisdiction. All interested persons who desire a public meeting for the purpose of being heard on the proposed withdrawal and transfer of jurisdiction must submit a written request to the BLM Wyoming State Director within 90 days from the date of publication of this notice. If the authorized officer determines that a public meeting will be held, a notice of the time and place will be published in the Federal Register at least 30 days before the scheduled date of the meeting.

(Authority: 43 CFR 2310.3-1)

Michael Madrid,
Chief, Branch of Fluid Mineral Operations, Lands and Appraisal.

[FR Doc. E6-19210 Filed 11-14-06; 8:45 am]

BILLING CODE 4310-22-P